DEPARTMENT OF STATE

[Public Notice: 12927]

Notice of Department of State Sanctions Action

ACTION: Notice.

SUMMARY: The U.S. Department of State is publishing the names of persons who have been added to the Department of the Treasury's List of Specially Designated Nationals and Blocked Persons (SDN List), administered by the Office of Foreign Assets Control (OFAC).

DATES: This action was issued on July 3, 2025. See SUPPLEMENTARY INFORMATION section for applicable dates.

FOR FURTHER INFORMATION CONTACT: Aaron P. Forsberg, Director, Office of Economic Sanctions Policy and Implementation, Bureau of Economic and Business Affairs, Department of State, Washington, DC 20520, tel.: (202) 647 7677, email: ForsbergAP@state.gov.

SUPPLEMENTARY INFORMATION:

Electronic Availability

The SDN List and additional information concerning sanctions programs are available on OFAC's website, https://ofac.treasury.gov/sanctions-programs-and-country-information/iran-sanctions.

Notice of Department of State Actions

On July 3, 2025, the Department of State, in consultation with other departments, as appropriate, determined that the property and interests in property subject to U.S. jurisdiction of the following persons are blocked under the relevant sanctions authority listed below.

Entities

1. SAI SABURI CONSULTING SERVICES PRIVATE LIMITED (a.k.a. SAI SABURI CONSULTING SERVICES), Unit J101, The Green Valley CHGS, Plot 18, Sector 22, Dwaraka, New Delhi, Delhi 110077, India; Executive Order 13846 information: BLOCKING PROPERTY AND INTERESTS IN PROPERTY. Sec. 5(a)(iv); Organization Established Date 26 Nov 2013; C.I.N. U70109DL2013PTC260922 (India); Identification Number IMO 6127236; Registration Number 260922 (India) [IRAN-EO13846].

Designated pursuant to section 3(a)(ii) of Executive Order 13846 “Reimposing Certain Sanctions With Respect to Iran” (E.O. 13846, for knowingly engaging in a significant transaction for the purchase, acquisition, sale, transport, or marketing of petroleum or petroleum products from Iran.

2. KAVEH METHANOL COMPANY (a.k.a. Kaveh Petrochemical Co.), Kaveh Building #4, Oshan Blvd., Sayad Shirazi Highway, Tehran, Iran; KM5 Dayyer to Bushehr Coasta Road, Bandar Dayyer, Bushehr, Iran; Additional Sanctions Information—Subject to Secondary Sanctions; Executive Order 13846 information: BLOCKING PROPERTY AND INTERESTS IN PROPERTY. Sec. 5(a)(iv); Organization Established Date 17 Apr 2004; Registration Number 219476 (Iran) [IRAN-EO13846].

Designated pursuant to section 3(a)(iii) of E.O. 13846 for knowingly engaging in a significant transaction for the purchase, acquisition, sale, transport, or marketing of petrochemical products from Iran.

3. ARIA SINA CONTROL INTERNATIONAL TECHNICAL INSPECTION CO. (a.k.a. “ASCO International”), 2nd Floor, No. 6, Gord West, Bidar, Fershteh St., Tehran, Iran; Additional Sanctions Information—Subject to Secondary Sanctions; Executive Order 13846 information: BLOCKING PROPERTY AND INTERESTS IN PROPERTY. Sec. 5(a)(iv); Organization Established Date 31 Jul 2011; Registration Number 409460 (Iran) [IRAN-EO13846].

Designated pursuant to section 3(a)(iii) of E.O. 13846 for knowingly engaging in a significant transaction for the purchase, acquisition, sale, transport, or marketing of petrochemical products from Iran.

BILLING CODE 4710-09-P

BILLING CODE 4710-09-C

5. BREEZE MARINE ASSET MANAGEMENT INC, 24th Floor, Churchill Tower, Business Bay, Dubai, United Arab Emirates; Trust Company Complex, Ajeltake Road, Majuro, Ajeltake Island 96960, Marshall Islands; Executive Order 13846 information: BLOCKING PROPERTY AND INTERESTS IN PROPERTY. Sec. 5(a)(iv); Organization Established Date 24 Apr 2023; Identification Number IMO 6404952; Registration Number 119696 (Marshall Islands) [IRAN-EO13846].

Designated pursuant to section 3(a)(ii) of E.O. 13846 for knowingly engaging in a significant transaction for the purchase, acquisition, sale, transport, or marketing of petroleum or petroleum products from Iran.

6. ISLE INNOVATION INC, 20th Floor, Global Plaza Building, Calle 50, Panama City, Panama; Executive Order 13846 information: BLOCKING PROPERTY AND INTERESTS IN PROPERTY. Sec. 5(a)(iv); Organization Established Date 2024; Identification Number IMO 0108938; Folio Mercantil No. 155758327 (Panama) [IRAN-EO13846].

Designated pursuant to section 3(a)(ii) of E.O. 13846, for knowingly engaging in a significant transaction for the purchase, acquisition, sale, transport, or marketing of petroleum or petroleum products from Iran.

Vessels

7. BATELEUR (HOA5120) LPG Tanker Panama flag; Vessel Year of Build 1995;Vessel Registration Identification IMO 9045807; MMSI 352980786 (vessel) [IRAN-EO13846] (Linked To: SAI SABURI CONSULTING SERVICES PRIVATE LIMITED).

Identified as property in which SAI SABURI CONSULTING SERVICES PRIVATE LIMITED, a person whose property and interests in property are blocked pursuant to E.O. 13846, has an interest.

8. NEEL (3E2234) LPG Tanker Panama flag;Vessel Year of Build 1998;Vessel Registration Identification IMO 9157478; MMSI 352002246 (vessel) [IRAN-EO13846](Linked To: SAI SABURI CONSULTING SERVICES PRIVATE LIMITED).

Identified as property in which SAI SABURI CONSULTING SERVICES PRIVATE LIMITED, a person whose property and interests in property are blocked pursuant to E.O. 13846, has an interest.

9. ARTEMIS III (HQZY4) Crude Oil Tanker Honduras flag;Vessel Year of Build 1996;Vessel Registration Identification IMO 9102241; MMSI 334983000 (vessel) [IRAN-EO13846](Linked To: BREEZE MARINE ASSET MANAGEMENT INC).

Identified as property in which BREEZE MARINE ASSET MANAGEMENT INC, a person whose property and interests in property are blocked pursuant to E.O. 13846, has an interest.

10. RIEVERIA I (T7BC7) Crude Oil Tanker San Marino flag;Vessel Year of Build 2004;Vessel Registration Identification IMO 9286229; MMSI 268245201 (vessel) [IRAN-EO13846](Linked To: ISLE INNOVATION INC).

Identified as property in which ISLE INNOVATION INC, a person whose property and interests in property are blocked pursuant to E.O. 13846, has an interest.

Hugo Y. Yon,
Principal Deputy Assistant Secretary, Bureau of Economic and Business Affairs, U.S. Department of State.

[FR Doc. 2026-01818 Filed 1-29-26; 8:45 am]

BILLING CODE 4710-09-P